DEPARTMENT OF THE INTERIOR

National Park Service

[NPS-WASO-NAGPRA-NPS0038011; PPWOCRADN0-PCU00RP14.R50000]

Notice of Intended Repatriation: University of Nebraska State Museum, University of Nebraska-Lincoln, Lincoln, NE

AGENCY: National Park Service, Interior.

ACTION: Notice.

SUMMARY: In accordance with the Native American Graves Protection and Repatriation Act (NAGPRA), the University of Nebraska State Museum intends to repatriate certain cultural items that meet the definition of objects of cultural patrimony and that have a cultural affiliation with the Indian Tribes or Native Hawaiian organizations in this notice.

DATES: Repatriation of the cultural items in this notice may occur on or after July 3, 2024.

ADDRESSES: Taylor Ronquillo NAGPRA Project Manager, University of Nebraska State Museum, University of Nebraska of Nebraska-Lincoln, 645 N 14th Street, Lincoln, NE 68588, telephone (402) 472-6592, email tronquillo2@unl.edu and Susan Weller NAGPRA Coordinator, University of Nebraska State Museum, University of Nebraska of Nebraska-Lincoln, 645 N 14th Street, Lincoln, NE 68588, telephone (402) 472-0577, email sweller2@unl.edu.

SUPPLEMENTARY INFORMATION: This notice is published as part of the National Park Service's administrative responsibilities under NAGPRA. The determinations in this notice are the sole responsibility of the University of Nebraska State Museum, and additional information on the determinations in this notice, including the results of consultation, can be found in the summary or related records. The National Park Service is not responsible for the determinations in this notice.

Abstract of Information Available

A total of 24 cultural items have been requested for repatriation. The 24 objects of cultural patrimony are three Cradleboards, 11 Moccasins, five Bags, one Blanket Stap, two Leggings, one Fragment of beaded band, and one Purse. The 24 cultural items were removed from the Plains Region of Northern America: two items were removed from Wyoming; two items were removed from Montana and two items were removed from South Dakota. Other than state location, there is no additional data for these items. On May 24, 2021, the UNSM obtained ownership of 1,355 objects from the Joslyn Art Museum (JAM). JAM obtained ownership of this collection from the Omaha Public Library on December 10, 2020. Among these 1,355 objects were 24 cultural items from the Plains Region of Northern America.

Determinations

The University of Nebraska State Museum has determined that:

• The 24 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Northern Cheyenne Tribe of the Northern Cheyenne Indian Reservation, Montana.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 3, 2024. If competing requests for repatriation are received, the University of Nebraska State Museum must determine the most appropriate requestor prior to repatriation. Requests for joint repatriation of cultural items are considered a single request and not competing requests. The University of Nebraska State Museum is responsible for sending a copy of this notice to the Indian Tribes and Native Hawaiian organizations identified in this notice and to any other consulting parties.

Authority: Native American Graves Protection and Repatriation Act, 25 U.S.C. 3004 and the implementing regulations, 43 CFR 10.9.

Dated: May 22, 2024.
Melanie O'Brien,
Manager, National NAGPRA Program.

[FR Doc. 2024-12071 Filed 5-31-24; 8:45 am]

BILLING CODE 4312-52-P